DEPARTMENT OF TRANSPORTATION

Surface Transportation Board

[STB Docket No. AB-515 (Sub-No. 2)]

Central Oregon & Pacific Railroad, Inc.—Abandonment and Discontinuance of Service—in Coos, Douglas, and Lane Counties, OR

On July 14, 2008, the Central Oregon & Pacific Railroad, Inc. (CORP) filed an application under 49 U.S.C. 10903 for permission to abandon and discontinue service over portions of a line of railroad known as the Coos Bay Subdivision, which consists of (1) the Coos Bay Branch (which is owned by CORP), and (2) the Coquille Branch and the LPN Branch (which are leased by CORP).¹

¹ The Coos Bay Subdivision also consists of CORP's line between Vaughn and Eugene, OR. CORP does not propose to abandon this additional segment. A feeder line application to purchase the Coos Bay Subdivision has been filed in STB Finance Docket No. 35160.

CORP seeks authority to abandon certain portions of the Coos Bay Subdivision that it owns, namely the line extending from milepost 669.0 near Vaughn to milepost 763.13 near Cordes, a distance of 94.13 miles in Coos, Douglas, and Lane Counties, OR. The line includes the stations of Richardson (milepost 685.0), Swisshome (milepost 697.1), Suislaw (milepost 697.8); Tide (milepost 699.2), Mapleton (milepost 705.3), Beck (milepost 709.0), Wendson (milepost 715.0), Cushman (milepost 716.0), Canary (milepost 721.3), Kroll (milepost 732.8), Gardiner Junction (milepost 738.8), Reedsport (milepost 740.4), Lakeside (milepost 752.1), Hauser (milepost 759.3), and Cordes (milepost 763.0); and traverses through United States Postal Service ZIP Codes 97439, 97441, 97449, 97453, 97459, 97461, 97467, 97480, 97487, 97490, and 97493.

CORP also seeks authority to discontinue service over the portions of the Coos Bay Subdivision that it leases: ² (1) The Coquille Branch extending from milepost 763.13 near Cordes to milepost 785.5 near Coquille, a distance of 22.37 miles, in Coos County, OR, including the stations of North Bend (milepost 765.6), Coos Bay (milepost 768.9), McCormac (milepost 770.5), Hayden (milepost 773.1), Chrome (milepost 781.2), and Coquille (milepost 785.6), and traversing through Unites States Postal Service ZIP Codes 97420, 97423, and 97459; and (2) the LPN Branch extending between CORP milepost 738.8 and LPN Branch milepost 2.0, a distance of 2.0 miles, in Douglas County, OR, including the station of Gardiner Junction (milepost 738.8), and traversing through United States Postal Service ZIP Code 97441.

² CORP leases the Coquille Branch from the Union Pacific Railroad Company and leases the LPN Branch from Longview, Portland & Northern Railway Company.

The line does contain federally granted rights-of-way. Any documentation in CORP's possession will be made available promptly to those requesting it. CORP's entire case for abandonment and discontinuance was filed with the application.

This line of railroad has appeared on CORP's system diagram map or has been included in its narrative in category 1 since May 8, 2008.

The interest of railroad employees will be protected by the conditions set forth in Oregon Short Line R. Co.—Abandonment—Goshen, 360 I.C.C. 91 (1979).

Any interested person may file with the Surface Transportation Board written comments concerning the proposed abandonment and discontinuance or protests (including the protestant's entire opposition case), by August 28, 2008. All interested persons should be aware that following any abandonment of rail service and salvage of the line, the line may be suitable for other public use, including interim trail use. Any request for a public use condition under 49 U.S.C. 10905 (49 CFR 1152.28) and any request for a trail use condition under 16 U.S.C. 1247(d) (49 CFR 1152.29) must be filed by August 28, 2008. Each trail use request must be accompanied by a $200 filing fee. See 49 CFR 1002.2(f)(27). Applicant's reply to any opposition statements and its response to trail use requests must be filed by September 12, 2008. See 49 CFR 1152.26(a). A final decision will be issued by October 31, 2008.

Persons opposing the proposed abandonment and/or discontinuance who wish to participate actively and fully in the process should file a protest. Persons who may oppose the abandonment and/or discontinuance but who do not wish to participate fully in the process or by submitting verified statements of witnesses containing detailed evidence should file comments. Persons seeking information concerning the filing of protests should refer to 49 CFR 1152.25. Persons interested only in seeking public use or trail use conditions should also file comments.

In addition, a commenting party or protestant may provide: (i) An offer of financial assistance (OFA) for continued rail service, pursuant to 49 U.S.C. 10904 (due 120 days after the application is filed or 10 days after the application is granted by the Board, whichever occurs sooner); (ii) recommended provisions for protection of the interests of employees; (iii) a request for a public use condition under 49 U.S.C. 10905; and (iv) a statement pertaining to prospective use of the right-of-way for interim trail use and rail banking under 16 U.S.C. 1247(d) and 49 CFR 1152.29.

Written comments and protests, including all requests for public use and trail use conditions, must indicate the proceeding designation STB Docket No. AB-515 (Sub-No. 2) and must be sent to: (1) Surface Transportation Board, 395 E Street, SW., Washington, DC 20423-0001, and (2) Terence M. Hynes, Sidley Austin LLP, 1501 K Street, NW., Washington, DC 20005. The original and 10 copies of all comments or protests shall be filed with the Board with a certificate of service. Except as otherwise set forth in 49 CFR part 1152, every document filed with the Board must be served on all parties to the abandonment and discontinuance proceeding. 49 CFR 1104.12(a).

The line sought to be abandoned and discontinued will be available for subsidy or sale for continued rail use, if the Board decides to permit the abandonment and/or discontinuance, in accordance with applicable laws and regulations (49 U.S.C. 10904 and 49 CFR 1152.27). Each OFA must be accompanied by a $1,500 filing fee. See 49 CFR 1002.2(f)(25). No subsidy arrangement approved under 49 U.S.C. 10904 shall remain in effect for more than 1 year unless otherwise mutually agreed by the parties (49 U.S.C. 10904(f)(4)(B)). Applicant will promptly provide upon request to each interested party an estimate of the subsidy and minimum purchase price required to keep the line in operation. CORP's representative to whom inquiries may be made concerning sale or subsidy terms is set forth above.

Persons seeking further information concerning abandonment procedures may contact the Board's Office of Public Assistance, Governmental Affairs, and Compliance at (866) 254-1792 or refer to the full abandonment or discontinuance regulations at 49 CFR part 1152. Questions concerning environmental issues may be directed to the Board's Section of Environmental Analysis (SEA) at (202) 245-0305. [Assistance for the hearing impaired is available through the Federal Information Relay Service (FIRS) at 1-800-877-9339.]

An environmental assessment (EA) (or environmental impact statement (EIS), if necessary) prepared by SEA will be served upon all parties of record and upon any agencies or other persons who commented during its preparation. Any other persons who would like to obtain a copy of the EA (or EIS) may contact SEA. EAs in this type of abandonment proceeding normally will be made available within 33 days of the filing of the application. The deadline for submission of comments on the EA will generally be within 30 days of its service. The comments received will be addressed in the Board's decision. A supplemental EA or EIS may be issued where appropriate.

By decisions served in this proceeding on July 29, 2008, and on August 1, 2008, the Board is also providing for a public hearing to be held in this proceeding.

Board decisions and notices are available on our Web site at http://www.stb.dot.gov.

Decided: July 29, 2008.
By the Board, David M. Konschnik, Director of Proceedings.
Anne K. Quinlan,
Acting Secretary.

[FR Doc. E8-17694 Filed 7-31-08; 8:45 am]

BILLING CODE 4915-01-P